DEPARTMENT OF DEFENSE

Office of the Secretary

Notice of Intent To Grant an Exclusive License; Kapalya, Inc.

AGENCY: National Security Agency, Department of Defense (DoD).

ACTION: Notice of intent.

SUMMARY: The National Security Agency hereby gives notice of its intent to grant Kapalya, Inc. a revocable, non-assignable, exclusive, license to practice the following Government-Owned invention as described and claimed United States Patent Serial Number (USPSN), 17/934,216, Security System for Hardening a Digital System Against Malware and Method of Operation.

DATES: Anyone wishing to object to the grant of this license has until January 5, 2024 to file written objections including evidence and argument that establish that the grant of the license would not be consistent with the requirements of 35 U.S.C. 209 and 37 CFR 404.7.

ADDRESSES: Written objections are to be filed with the National Security Agency Technology Transfer Program, 9800 Savage Road, Suite 6843, Fort George G. Meade, MD 20755-6843.

FOR FURTHER INFORMATION CONTACT: Linda L. Burger, Director, Technology Transfer Program, 9800 Savage Road, Suite 6843, Fort George G. Meade, MD 20755-6843, telephone (443) 634-3518.

SUPPLEMENTARY INFORMATION: The prospective exclusive license will comply with the terms and conditions of 35 U.S.C. 209 and 37 CFR 404.7. The patent rights in these inventions have been assigned to the United States Government as represented by the National Security Agency.

Dated: December 15, 2023.
Aaron T. Siegel,
Alternate OSD Federal Register Liaison Officer, Department of Defense.

[FR Doc. 2023-28073 Filed 12-20-23; 8:45 am]

BILLING CODE 6001-FR-P